DEPARTMENT OF AGRICULTURE

Forest Service

Notice of Proposed New Fee Sites

AGENCY: Forest Service, Agriculture (USDA).

ACTION: Notice of proposed new fee sites.

SUMMARY: The Sierra National Forest is proposing to charge new fees at multiple recreation sites listed in SUPPLEMENTARY INFORMATION of this notice. Funds from fees would be used for operation, maintenance, and improvements of these recreation sites. Many sites have recently been reconstructed or amenities are being added to improve services and experiences. An analysis of nearby developed recreation sites with similar amenities shows the proposed fees are reasonable and typical of similar sites in the area.

DATES: If approved, the new fee would be implemented no earlier than six months following the publication of this notice in the Federal Register.

ADDRESSES: Sierra National Forest, 1600 Tollhouse Road, Clovis, CA 93611.

FOR FURTHER INFORMATION CONTACT: Jody Nickerson-Powell, Forest Recreation Officer, 559-797-7410 or jody.nickerson@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment.

Reasonable fees, paid by users of these sites, will help ensure that the Forest can continue maintaining and improving recreation sites like this for future generations.

As part of this proposal, the Jerseydale campground fee is proposed at $20 per night. The Kirch Flat campground fee is proposed at $20 per night plus a $5 extra vehicle fee. Kirch Flat group campground fee is proposed at $100 per night with a $5 extra vehicle fee over 14 vehicles.

New fees would provide increased visitor opportunities, as well as increased staffing to address operations and maintenance needs and enhance customer service. Once public involvement is complete, these new fees will be reviewed by a Recreation Resource Advisory Committee prior to a final decision and implementation.

Advanced reservations for campgrounds and cabins will be available through www.recreation.gov or by calling 1-877-444-6777. The reservation service charges an $8.00 fee for reservations.

Dated: June 22, 2022.
Sandra Watts,
Acting Associate Deputy Chief, National Forest System.

[FR Doc. 2022-13676 Filed 6-27-22; 8:45 am]

BILLING CODE 3411-15-P